DEPARTMENT OF COMMERCE

Foreign-Trade Zones Board

[Order No. 2077]

Reorganization of Foreign-Trade Zone 78 Under Alternative Site Framework; Nashville, Tennessee

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Metropolitan Government of Nashville and Davidson County, grantee of Foreign-Trade Zone 78, submitted an application to the Board (FTZ Docket B-41-2018, docketed June 28, 2018) for authority to reorganize under the ASF with a service area of the Counties of Cannon, Cheatham, Davidson, Dickson, Macon, Maury, Montgomery, Robertson, Rutherford, Smith, Sumner, Trousdale, Williamson and Wilson, Tennessee in and adjacent to the Nashville Customs and Border Protection port of entry, FTZ 78's existing Sites 6 and 7 would be categorized as magnet sites, and existing Sites 13, 14 and 15 would be categorized as usage-driven sites;

Whereas, notice inviting public comment was given in the Federal Register (83 FR 31368, July 5, 2018) and the application has been processed pursuant to the FTZ Act and the Board's regulations; and,

Whereas, the Board adopts the findings and recommendations of the examiner's report, and finds that the requirements of the FTZ Act and the Board's regulations are satisfied;

Now, therefore, the Board hereby orders:

The application to reorganize FTZ 78 under the ASF is approved, subject to the FTZ Act and the Board's regulations, including Section 400.13, to the Board's standard 2,000-acre activation limit for the zone, to an ASF sunset provision for magnet sites that would terminate authority for Site 7 if not activated within five years from the month of approval, and to an ASF sunset provision for usage-driven sites that would terminate authority for Sites 13, 14 and 15 if no foreign-status merchandise is admitted for a bona fide customs purpose within three years from the month of approval.

Dated: December 13, 2018.
Christian B. Marsh,
Acting Assistant Secretary for Enforcement and Compliance, Alternate Chairman, Foreign-Trade Zones Board.

[FR Doc. 2018-27427 Filed 12-18-18; 8:45 am]

BILLING CODE 3510-DS-P